DEPARTMENT OF THE INTERIOR

National Park Service

National Register of Historic Places; Notification of Pending Nominations and Related Actions

Nominations for the following properties being considered for listing or related actions in the National Register were received by the National Park Service before October 1, 2005.

Pursuant to section 60.13 of 36 CFR part 60 written comments concerning the significance of these properties under the National Register criteria for evaluation may be forwarded by United States Postal Service to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by November 7, 2005.

John W. Roberts,
Acting Chief, National Register/National Historic Landmarks Program.

COLORADO

Denver County

Zall House, 5401 East Sixth Avenue Parkway, Denver, 05001207

MASSACHUSETTS

Berkshire County

Cranesville Historic District, N and S of Main St., W of Park Ave., Dalton, 05001208

Middlesex County

New England Confectionery Company Factory, 250 Massachusetts Ave., Cambridge, 05001209

MICHIGAN

Berrien County

St. Joseph North Pier Inner and Outer Lights, (Light Stations of the United States MPS) On North Pier of St. Joseph R mouth, 0.9 mi. W of MI 63 bridge, St. Joseph, 05001211

Emmet County

Grays Reef Light Station, (Light Stations of the United States MPS) in NE Lake Michigan, 3.8 mi W of Waugashance Island, Bliss Township, 05001210

NEW YORK

Orange County

Millspaugh, Gilbert, House, 32 Church St., Walden, 05001216

OHIO

Summit County

Selle Gear Company, 451 S. High St., Akron, 05001213

PENNSYLVANIA

Montgomery County

Fetter's Mill Village Historic district, Fetter's Mill Rd. and Pennypack Ln., Byrn Athyn Borough, 05001212

TENNESSEE

Anderson County

McAdoo, Green, School, 101 School St., Clinton, 05001218

Franklin County

Hunt—Moore House, 518 Main St., Huntland, 05001223

Hardeman County

Allen—White School, 100 Allen Extension St., Whiteville, 05001214

United Sons and Daughters of Charity Lodge Hall, (Rural African-American Churches in Tennessee MPS) 322 W. McNeal St., Bolivar, 05001222

Jefferson County

Christ Temple AME Zion Church, (Rural African-American Churches in Tennessee MPS) 235 E. Meeting St., Dandridge, 05001221

Knox County

Central United Methodist Church, (Knoxville and Knox County MPS) 201 E. Third Ave., Knoxville, 05001225

Perry County

Craig Family Farm, (Historic Family Farms in Middle Tennessee MPS) 1031 N. Fork Rd., Linden, 05001219

Rutherford County

McGill—Becton—Cates Family Farm, (Historic Family Farms in Middle Tennessee MPS) 2432 Cripple Creek Rd., Readyville, 05001220

Shelby County

LeMoyne College Historic District, Roughly bounded by Walker, Hollis Price, Crown and alley to rear of Sweeney Hall, Memphis, 05001215

Presley, Elvis, House, (Memphis MPS) 1034 Audobon Dr., Memphis, 05001217

Williamson County

Hodge, Robert, House, (Williamson County MRA) 409 Madison Court, Franklin, 05001224

VERMONT

Washington County

Worcester Town Hall, 12 Worcester Village Rd., Worcester, 05001234

Worcester Village School, (Educational Resources of Vermont MPS) 17 Calais Rd., Worcester, 05001235

Windham County

Dickinson Estate Historic District, Dickinson and Kipling Rds., Brattleboro, 05001237

Vernon District Schoolhouse No. 4, (Educational Resources of Vermont MPS) 4201 Fort Bridgman Rd., Vernon, 05001236

VIRGINIA

Henrico County

Henrico Theatre (043-0287), 305 E. Nine Mile Rd., Highland Springs, 05001226

Nelson County

Lovingston Historic District, VA 56 (Front St.) from Orchard Rd. (N) to Sunset Ln. (S), Parallel to US 29, Lovingston, 05001232

Wintergreen County Store

Jct. of VA 151 and VA 627, 1368 Rockfish Valley Hwy, Nellysford, 05001233

Richmond Independent city Arimount School (127-0308), (Public Schools of Richmond MPS) 1501 N. 21st St., Richmond (Independent City), 05001227

Green's Farm (Huntley), 6510 Three Chopt Rd., Richmond (Independent City), 05001228

Winchester Independent city Cline, Patsy, House, 608 S. Kent St., Winchester (Independent City), 05001230

WASHINGTON

Clark County

Columbia City to Cascade City Road, Located near 144th Ct. and SE Evergreen Hwy, Vancouver, 05001231

WISCONSIN

Winnebago County

East Forest Avenue Historic District, Generally bounded by E. Forest Ave., Webster St., Hewitt St. and Eleventh St., Neenah, 05001229

[FR Doc. 05-21034 Filed 10-20-05; 8:45 am]

BILLING CODE 4312-51-P